FEDERAL COMMUNICATIONS COMMISSION

[Report No. 2590]

Petitions for Reconsideration of Action in Rulemaking Proceeding

January 22, 2003.

Petitions for reconsideration have been filed in the Commission's rulemaking proceeding listed in this public notice and published pursuant to 47 CFR 1.429(e). The full text of this document is available for viewing and copying on Room CY-A257, 445 12th Street SW., Washington, DC or may be purchased from the Commission's copy contractor, Qualex International (202) 863-2893. Oppositions to these petitions must be filed by February 18, 2003. See § 1.4(b)(1) of the Commission's rules (47 CFR 1.4(b)(1)). Replies to an opposition must be filed within 10 days after the time for filing oppositions has expired.

Subject: In the Matter of digital audio broadcasting systems and their impact on the terrestrial radio broadcast service (MM Docket No. 99-325).

Number of Petitions Filed: 2.

Marlene H. Dortch,
Secretary.

[FR Doc. 03-2264 Filed 1-30-03; 8:45 am]

BILLING CODE 6712-01-M